Title 3—

The President

Executive Order 14299 of May 23, 2025

Deploying Advanced Nuclear Reactor Technologies for National Security

By the authority vested in me as President by the Constitution and the laws of the United States of America, it is hereby ordered:

Section 1. Background. The United States faces a critical national security imperative to ensure a resilient, secure, and reliable energy supply for critical defense facilities designated under section 824o-1(c) of title 16, United States Code, and other mission capability resources. Advanced computing infrastructure for artificial intelligence (AI) capabilities and other mission capability resources at military and national security installations and national laboratories demands reliable, high-density power sources that cannot be disrupted by external threats or grid failures. These facilities and resources' vulnerability to energy disruption represents a strategic risk that must be addressed.

Advanced nuclear reactors include nuclear energy systems like Generation III+ reactors, small modular reactors, microreactors, and stationary and mobile reactors that have the potential to deliver resilient, secure, and reliable power to critical defense facilities and other mission capability resources. However, despite its promise, such technology has not been utilized in the United States at the scale or speed necessary to meet the Nation's urgent national security requirements, while our adversaries are rapidly exporting and deploying such technology around the world.

The Federal Government must utilize its full authority to accelerate the secure and responsible development, demonstration, deployment, and export of United States designed advanced nuclear technologies to bolster readiness and enhance American technological superiority. Additionally, the United States must further enhance our ability to export our nuclear technology to our allies and commercial partners, strengthening our shared ability to combat reliance on foreign adversaries through the use of safe, secure, and safeguarded nuclear technologies. Therefore, we must unleash the domestic nuclear industrial base and position American nuclear companies as the partners of choice for future energy growth throughout the world.

Sec. 2. Policy. It is the policy of the United States to:

(a) ensure the rapid development, deployment, and use of advanced nuclear technologies to support national security objectives, such as the protection and operation of critical infrastructure, critical defense facilities, and other mission capability resources;

(b) enable private sector investment, innovation, development, and use of advanced nuclear technologies in the United States, recognizing their benefit to national security, by aligning incentives across the Federal Government to fully leverage federally owned uranium and plutonium resources declared excess to defense needs, related nuclear material, supply chain components, and research and development infrastructure; and

(c) coordinate regulatory efforts across the Department of Defense and the Department of Energy, ensuring that these agencies optimize resources and risk allocation in accordance with their respective missions sets.

Sec. 3. Deployment and Use of Advanced Nuclear Reactor Technologies at Military Installations. (a) The Secretary of Defense, through the Secretary of the Army, shall establish a program of record for the utilization of nuclear energy for both installation energy and operational energy. The Secretary of Defense, through the Secretary of the Army, shall commence the operation of a nuclear reactor, regulated by the United States Army, at a domestic military base or installation no later than September 30, 2028. The Secretary of Defense shall designate the Secretary of the Army as the executive agent for both installation and operational nuclear energy across the Department of Defense.

(b) The Secretary of Energy shall provide technical advice, as requested, to the Secretary of Defense on the design, construction, and operation of any advanced nuclear reactor on a military installation pursuant to this order.

(c) The Secretary of State shall provide advice to the Secretary of Defense on any international legal requirements, or any necessary modification to international agreements or arrangements, relevant to this order.

(d) Within 240 days of the date of this order, the Secretary of Defense shall, in coordination with the Secretary of Energy, the Director of the Office of Management and Budget (OMB), and the Secretaries of the military departments, prepare and submit to the Assistant to the President for National Security Affairs recommendations for legislative proposals and regulatory actions regarding the distribution, operation, replacement, and removal of advanced nuclear reactors and spent nuclear fuel on military installations.

Sec. 4. Deployment and Use of Advanced Nuclear Reactor Technologies at Department of Energy Facilities. (a) The Secretary of Energy shall initiate the process for designating AI data centers within the 48 contiguous States and the District of Columbia, in whole or in part, that are located at or operated in coordination with Department of Energy facilities, including as support for national security missions, as critical defense facilities, where appropriate. The electrical infrastructure, including both nuclear and non-nuclear power generation infrastructure, needed to operate such shall be considered defense critical electric infrastructure, for purposes of this order and subsequently across all applicable statutes, regulations, and directives or other non-regulatory statements of policy, as appropriate and consistent with applicable law.

(b) Within 90 days of the date of this order, the Secretary of Energy shall designate one or more sites owned or controlled by the Department of Energy within the United States, including national laboratories, for the use and deployment of advanced nuclear reactor technologies.

(c) The Secretary of Energy shall utilize all available legal authorities to site, approve, and authorize the design, construction, and operation of privately funded advanced nuclear reactor technologies at Department of Energy-owned or controlled sites for the purpose of powering AI infrastructure, other critical or national security needs, supply chain items, or on-site infrastructure. The Secretary of Energy shall prioritize early site preparation and authorization activities with a goal of operating an advanced nuclear reactor at the first site no later than 30 months from the date of this order.

Sec. 5. Uranium and Related Materials for Reactors Referenced in this Order. (a) Within 90 days of the date of this order, the Secretary of Energy shall identify all useful uranium and plutonium material within the Department of Energy's inventories that may be recycled or processed into nuclear fuel for reactors in the United States.

(b) The Secretary of Energy shall release into a readily available fuel bank not less than 20 metric tons of high assay low-enriched uranium (HALEU) for any project from the private sector which receives authorization to construct and operate at a Department of Energy-owned or controlled site and that is regulated by the Department of Energy for the purpose of powering AI and other infrastructure. The Secretary of Energy shall retain such stockpiles of fuel as are necessary for tritium production, naval propulsion, and nuclear weapons as well as other existing national security obligations and therefore draw from other caches of Department of Energy-owned material to provide HALEU for the fuel bank pursuant to this section. To the extent feasible, the Secretary of Energy shall implement plans to ensure that a long-term supply of enriched uranium is available for the continued operation of the projects referenced in this first sentence of this subsection, including through the establishment of domestic fuel fabrication and supply chains to reduce reliance on foreign sources of fuel.

(c) The Secretary of Defense and the Secretary of Energy shall utilize all available legal authorities to site, approve, and authorize the design, construction, and operation of privately-funded nuclear fuel recycling, reprocessing, and reactor fuel fabrication technologies at identified sites controlled by their respective agencies for the purpose of fabricating fuel forms for use in national security reactors, commercial power reactors, and non-power research reactors.

Sec. 6. Interagency Coordination. The Secretary of Defense and the Secretary of Energy shall execute any useful contract or agreement under any of their respective authorities to support implementation of this order, including contracts or agreements for technical advisory support from the Department of Energy at Department of Defense installations for research, development, design, acquisition, specification, construction, inspection, installation, certification, testing, overhaul, refueling, operation, maintenance, supply support, and disposition of advanced nuclear reactor technologies in support of mission assurance objectives for critical infrastructure and to ensure military readiness and support from the Department of Defense to identify novel uses of advanced nuclear reactor technologies for defense applications and testing at Department of Energy-owned or controlled sites.

Sec. 7. National Environmental Policy Act Compliance. The Secretary of Defense and the Secretary of Energy shall consult with the Chairman of the Council on Environmental Quality regarding:

(a) applying the Department of Defense's and the Department of Energy's established categorical exclusions under the National Environmental Policy Act (NEPA), 42 U.S.C. 4321 et seq., for the construction of advanced nuclear reactor technologies on certain Federal sites within the United States and for any other appropriate measures for the purposes of implementing this order;

(b) adopting other executive departments and agencies' (agencies) categorical exclusions for the same purposes;

(c) establishing new categorical exclusions for the same purposes;

(d) seeking to utilize other agencies' emergency and other permitting procedures for the siting and construction of advanced nuclear reactor technologies; and

(e) developing alternative arrangements for compliance with NEPA in emergency situations as appropriate for the same purposes.

Sec. 8. Promoting American Nuclear Exports. (a) The Secretary of State or the Secretary of State's designee shall:

(i) lead diplomatic engagement and negotiations for Agreements for Peaceful Nuclear Cooperation pursuant to section 123 of the Atomic Energy Act of 1954, 42 U.S.C. 2153 (123 Agreements);

(ii) aggressively pursue at least 20 new 123 Agreements by the close of the 120th Congress to enable the United States nuclear industry to access new markets in partner countries;

(iii) aggressively renegotiate 123 Agreements set to expire within the next decade;

(iv) fully leverage the resources of the Federal Government to promote the United States nuclear industry in the development of commercial civil nuclear projects globally; and

(v) lead engagement with the Congress regarding the progress and reporting of negotiating 123 Agreements.

(b) The Secretary of Energy shall expeditiously review and, subject to the concurrence of the Secretary of State and after consultation with the Nuclear Regulatory Commission, the Department of Commerce, and the Department of Defense, adjudicate export authorization requests to facilitate United States technological leadership. The Secretary of Energy, subject to the concurrence of the Secretary of State and after consultation with the Nuclear Regulatory Commission, the Department of Commerce, and the Department of Defense, shall approve or deny each technology transfer export authorization request within 30 days of receipt of a complete application and completion by the Department of Energy of the required accompanying analysis, excluding any time period waiting for (i) concurrence from the Department of State; and (ii) retransfer and nonproliferation assurances to be received from the government of the country where the export is proposed to be sent.

(c) Within 90 days of the date of this order, the Director of the Office of Science and Technology Policy and the Assistant to the President for Economic Policy shall, in consultation with the Secretary of State, the Secretary of the Treasury, the Secretary of Commerce, the Secretary of Energy, the Director of OMB, the Assistant to the President for National Security Affairs, and the Chair of the National Energy Dominance Council, determine a strategy which addresses:

(i) optimizing the value of the United States International Development Finance Corporation to provide equity and other financing of American nuclear energy technology;

(ii) increasing the effectiveness of the United States Trade and Development Agency, as consistent with law, by expanding grant financing for United States nuclear technology pilots, fuel supplies, and project preparation to recently graduated high income economies of national strategic interest;

(iii) leveraging the Export-Import Bank of the United States and other relevant agencies to increase financing for projects utilizing United States civil nuclear technology exports throughout the project lifecycle;

(iv) holding trade missions and reverse trade missions and leveraging other trade promotion tools to remove trade barriers and increase the market competitiveness of the United States nuclear industry; and

(v) achieving competitive parity in the global market for high-level advocacy and representation from the Federal Government to foreign governments of potential import countries to include alignment on nuclear-related bilateral issues, focusing on countries with the highest probability of nuclear deployment within the next 4 years based on industry assessment and established commercial criteria such as the strength of the country's financial and regulatory system.

(d) Within 90 days of the date of this order, the Secretary of the Treasury shall, in consultation with the Secretary of State, the Secretary of Commerce, the Secretary of Energy, the Director of OMB, the Director of the Office of Science and Technology Policy, the Chair of the National Energy Dominance Council, and the Assistant to the President for Economic Policy, determine a strategy that:

(i) leverages United States participation in the multilateral development banks to support client country access to financial and technical assistance for the generation and distribution of nuclear energy and a reliable fuel supply; and

(ii) supports such assistance at relevant institutions to make financial support available on competitive terms, strengthen the capacity of such institutions to assess, implement, and evaluate nuclear energy projects, and support adoption of nuclear energy technologies and fuel supply chains that meet or exceed the quality standards in the United States or a country allied with the United States.

(e) Within 90 days of the date of this order, the Secretary of State or his designee shall, in consultation with the Secretary of Commerce and the Secretary of Energy, and after review by the Director of the Office of Science and Technology Policy and the Assistant to the President for Economic Policy, implement a program to enhance the global competitiveness of American nuclear suppliers, investors, and lenders to compete for nuclear projects around the globe, including actions to:

(i) expedite the conclusion of intergovernmental agreements on nuclear energy and the fuel supply chain with potential export countries;

(ii) promote broad adherence to the Convention on Supplementary Compensation for Nuclear Damage;

(iii) identify statutory and regulatory burdens on exports of American nuclear technology, fuel supplies, equipment, and services that are not addressed by this or other Executive Orders and recommend appropriate remedial action; and

(iv) encourage favorable decisions by potential import countries on the use of American nuclear technology, fuel supplies, equipment, and services.

Sec. 9. Prioritization of Nuclear Clearances. The Secretary of Defense, through the Defense Counterintelligence and Security Agency and in consultation with the Secretary of Energy, shall prioritize the issuance as appropriate of Department of Energy and Department of Defense security clearances including “L”, “Q”, “SECRET”, “TOP SECRET”, “RD”, “CNWDI”, and “SCI” to support the rapid distribution and use of nuclear energy and fuel cycle technologies.

Sec. 10. Other Provisions. Nothing in this order shall be construed to impair or otherwise affect OMB functions related to procurement actions and related policy. This order shall be carried out subject to the budgetary, legislative, and procurement processes and requirements established by the Director of OMB, and coordinated with OMB, as appropriate, prior to the initiation of any new program, obligation, or commitment of Federal funds or submission of any legislative or procurement proposal arising from this order. This order shall be carried out in a manner which adheres to applicable legal requirements, conforms with nonproliferation obligations, and meets the highest safeguards and safety and security standards.

Sec. 11. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations;

(c) This order is not intended to, and does not, create any right or benefit, substantive or procedural, enforceable at law or in equity by any party against the United States, its departments, agencies, or entities, its officers, employees, or agents, or any other person.

(d) The Department of Energy shall provide funding for publication of this order in the Federal Register.

THE WHITE HOUSE,

May 23, 2025.

[FR Doc. 2025-09796

Filed 5-28-25; 8:45 am]

Billing code 6450-01-P